Proclamation 9262 of April 30, 2015

National Building Safety Month, 2015

By the President of the United States of America

A Proclamation

From skyscrapers and schools to hospitals and homes, America's buildings are the foundations of our communities. When disasters strike, we rely on the structural integrity of our buildings to keep us safe. This month, we pay tribute to the innovative professionals who implement our safety standards, and we redouble our efforts to make our buildings as resilient as our people.

All Americans can take action to protect their loved ones and their property by preparing their homes and workplaces for any disaster. If earthquakes are common where you live, you can restrain heavy appliances, anchor tall bookcases and file cabinets, and install latches on drawers and cabinet doors. To protect against hurricanes, tornadoes, and high winds, you can reinforce garage doors and prepare covers for your windows and house doors. To learn more about how to prepare for all types of disasters and improve the safety and resilience of the places in which you spend time, visit www.Ready.gov.

My Administration is committed to creating stronger, safer, disaster-resistant communities and to empowering Americans to do their part. We are collaborating with engineers, scientists, construction workers, and other professionals to develop cutting-edge tools focused on bolstering the safety of our buildings and infrastructure while also improving their energy efficiency—because we can increase our Nation's resilience while also being good stewards of our environment. And we are working with States, tribal leaders, and local partners to ensure neighborhoods across our Nation adopt the most up-to-date building codes and standards that not only help protect individuals and their families, but also support the needs of our cities and towns.

As our Nation faces longer wildfire seasons, more severe droughts, heavier rainfall, and more frequent flooding in a changing climate, safeguarding the resilience of our infrastructure is more critical than ever. That is why, as part of my Climate Action Plan, my Administration is committed to building infrastructure that can withstand more frequent and more devastating natural disasters. To support these efforts, earlier this year I established a flood standard for new and rebuilt federally funded structures in and around floodplains, ensuring taxpayer dollars are well spent on resilient infrastructure while reducing the risk and cost of future flood disasters.

Across the United States, buildings bring us together and protect us from harm. As a Nation, our capacity to continue to withstand threats and recover quickly from disaster depends on what we do today. During National Building Safety Month, let us rededicate ourselves to making the places we live, work, and play more stable and secure for generations to come.

NOW, THEREFORE, I, BARACK OBAMA, President of the United States of America, by virtue of the authority vested in me by the Constitution and the laws of the United States, do hereby proclaim May 2015 as National Building Safety Month. I encourage citizens, government agencies, businesses, nonprofits, and other interested groups to join in activities that raise awareness about building safety. I also call on all Americans to learn more about how they can contribute to building safety at home and in their communities.

IN WITNESS WHEREOF, I have hereunto set my hand this thirtieth day of April, in the year of our Lord two thousand fifteen, and of the Independence of the United States of America the two hundred and thirty-ninth.

[FR Doc. 2015-10638

Filed 5-4-15; 8:45 am]

Billing code 3295-F5